ENVIRONMENTAL PROTECTION AGENCY

40 CFR Part 81

[EPA-HQ-OAR-2012-0233; FRL-9793-7]

EPA Responses to State and Tribal 2010 Sulfur Dioxide Designation Recommendations: Notice of Availability and Public Comment Period

AGENCY: Environmental Protection Agency (EPA).

ACTION: Notice of reopening of public comment period.

SUMMARY: The EPA is announcing the reopening of the public comment period for the EPA's responses to state and tribal designation recommendations for the 2010 Sulfur Dioxide National Ambient Air Quality Standard. The EPA sent the responses directly to the states and tribes on or about February 7, 2013. On February 15, 2013, the EPA published a notice of availability in the Federal Register that the EPA had posted the responses on its Internet Web site and the EPA invited public comment. In the notice of availability, the EPA stated that public comments must be received on or before March 18, 2013. The EPA has received several requests from stakeholders for additional time to prepare their comments. Some of the requesters asserted that they needed additional time to review the EPA's response to state's proposed designation and prepare their responses due to the complexity of the issues impacting their area. Taking that into consideration, the EPA is reopening the comment period until April 8, 2013. The EPA intends to make final the designation determinations for the areas of the country addressed by these responses in June 2013.

DATES: Comments on the notice of availability published February 15, 2013 (78 FR 11124) must be received on or before April 8, 2013. Please refer to SUPPLEMENTARY INFORMATION for additional information on the comment period.

ADDRESSES: Submit your comments, identified by Docket ID No. EPA-HQ-OAR-2012-0233, by one of the following methods:

• http://www.regulations.gov. Follow the online instructions for submitting comments.

• Email: a-and-r-docket@epa.gov. Attention Docket ID No. EPA-HQ-OAR-2012-0233.

• Fax: 202-566-9744. Attention Docket ID No. EPA-HQ-OAR-2012-0233.

• Mail: Air Docket, Attention Docket ID No. EPA-HQ-OAR-2012-0233, Environmental Protection Agency, Mail Code: 6102T, 1200 Pennsylvania Ave. NW., Washington, DC 20460.

• Hand Delivery: EPA Docket Center, 1301 Constitution Avenue NW., Room 3334, Washington, DC. Such deliveries are only accepted during the Docket's normal hours of operation, and special arrangements should be made for deliveries of boxed information.

Instructions: Direct your comments to Docket ID No. EPA-HQ-OAR-2012-0233. The EPA's policy is that all comments received will be included in the public docket without change and may be made available online at www.regulations.gov, including any personal information provided, unless the comment includes information claimed to be confidential business information (CBI) or other information whose disclosure is restricted by statute. Do not submit information that you consider to be CBI or otherwise protected through www.regulations.gov or email. The www.regulations.gov Web site is an “anonymous access” system, which means the EPA will not know your identity or contact information unless you provide it in the body of your comment. If you send an email comment directly to the EPA without going through www.regulations.gov, your email address will be automatically captured and included as part of the comment that is placed in the public docket and made available on the Internet. If you submit an electronic comment, the EPA recommends that you include your name and other contact information in the body of your comment and with any disk you submit. If the EPA is unable to read your comment and cannot contact you for clarification due to technical difficulties, the EPA may not be able to consider your input. Electronic files should avoid the use of special characters, any form of encryption, and be free of any defects or viruses. For additional information about the EPA's public docket, visit the EPA Docket Center homepage at http://www.epa.gov/epahome/dockets.htm. For additional instructions on submitting comments, go to Section I of the SUPPLEMENTARY INFORMATION section of this document.

Docket: All documents in the docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the EPA Docket Center, EPA West, Room 3334, 1301 Constitution Avenue NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Rhonda Wright, U.S. EPA, Office of Air Quality Planning and Standards, Air Quality Planning Division, C539-04, Research Triangle Park, NC 27711, telephone (919) 541-1087, email at wright.rhonda@epa.gov. For questions regarding areas in EPA Region 1, please contact Donald Dahl, U.S. EPA, telephone (617) 918-1657, email at dahl.donald@epa.gov. For questions regarding areas in EPA Region 2, please contact Kenneth Fradkin, U.S. EPA, telephone (212) 637-3702, email at fradkin.kenneth@epa.gov. For questions regarding areas in EPA Region 3, please contact Irene Shandruk, U.S. EPA, telephone (215) 814-2166, email at shandruk.irene@epa.gov. For questions regarding areas in EPA Region 4, please contact Lynorae Benjamin, U.S. EPA, telephone (404) 562-9040, email at benjamin.lynorae@epa.gov. For questions regarding areas in EPA Region 5, please contact John Summerhays, U.S. EPA, telephone (312) 886-6067, email at summerhays.john@epa.gov. For questions regarding areas in EPA Region 6, please contact Dayana Medina, U.S. EPA, telephone (214) 665-7241, email at medina.dayana@epa.gov. For questions regarding areas in EPA Region 7, please contact Larry Gonzalez, U.S. EPA, telephone (913) 551-7041, email at gonzalez.larry@epa.gov. For questions regarding areas in EPA Region 8, please contact Crystal Ostigaard, U.S. EPA, telephone (303) 312-6602, email at ostigaard.crystal@epa.gov. For questions regarding areas in EPA Region 9, please contact John Kelly, U.S. EPA, telephone (415) 947-4151, email at kelly.johnj@epa.gov. For questions regarding areas in EPA Region 10, please contact Steve Body, U.S. EPA, telephone (206) 553-0782, email at body.steve@epa.gov.

SUPPLEMENTARY INFORMATION:

I. Instructions for Submitting Public Comments and Internet Web Site for Rulemaking Information

A. What should I consider as I prepare my comments for the EPA?

1. Submitting CBI. Do not submit this information to the EPA through www.regulations.gov or email. Clearly mark the part or all of the information that you claim to be CBI. For CBI in a disk or CD-ROM that you mail to the EPA, mark the outside of the disk or CD-ROM as CBI and then identify electronically within the disk or CD-ROM the specific information that is claimed as confidential business information. In addition to one complete version of the comment that includes information claimed as CBI, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, email at morales.roberto@epa.gov, Attention Docket ID No. OAR-2012-0233.

2. Tips for Preparing Your Comments. When submitting comments, remember to:

• Identify the rulemaking by docket number and other identifying information (subject heading, Federal Register date and page number).

• Follow directions.

• Explain why you agree or disagree; suggest alternatives and substitute language for your requested changes.

B. Where can I find additional information for this rulemaking?

The EPA has also established a Web site for this rulemaking at http://www.epa.gov/so2designations. The Web site includes the EPA's state and tribal designation recommendations, information supporting the EPA's preliminary designation decisions, as well as the rulemaking actions and other related information that the public may find useful.

Dated: March 19, 2013.
Mary E. Henigin,
Acting Director, Office of Air Quality Planning and Standards.

[FR Doc. 2013-06649 Filed 3-22-13; 8:45 am]

BILLING CODE 6560-50-P